DEPARTMENT OF HEALTH AND HUMAN SERVICES

Substance Abuse and Mental Health Services Administration

Proposed Changes in Announcement of SAMHSA Discretionary Grant Funding Opportunities

Authority: Sections 509, 516, and 520A of the Public Health Service Act.

AGENCY: Substance Abuse and Mental Health Services Administration, HHS.

ACTION: Notice of proposed changes in announcement of SAMHSA discretionary grant funding opportunities.

SUMMARY: Beginning in Fiscal Year (FY) 2004, the Substance Abuse and Mental Health Services Administration (SAMHSA) plans to change its approach to announcing and soliciting applications for its discretionary grant programs. This notice describes the proposed changes and invites public comment on those changes. This notice will be followed by proposed text for four standard grant announcements (Services Grants, Infrastructure Grants, Best Practices Planning and Implementation Grants, and Service to Science Grants). Comments are invited on the proposed standard grant announcements, as well.

DATES: Submit written comments on this proposal by October 20, 2003.

ADDRESSES: Interested persons are invited to submit comments regarding SAMHSA's proposed changes in the announcement of discretionary grant funding opportunities to: Office of Policy, Planning and Budget, SAMHSA, Attn: Jennifer Fiedelholtz by fax (301-594-6159) or e-mail (samhsa_standard_grants@samhsa.gov). Please include a phone number in your e-mail, so that SAMHSA staff may contact you if there are questions about your comments.

FOR FURTHER INFORMATION CONTACT: Jennifer Fiedelholtz of the Office of Policy, Planning and Budget, SAMHSA, by fax (301-594-6159) or e-mail (samhsa_standard_grants@samhsa.gov). If you would like a SAMHSA staff person to call you about your questions, please state this in an e-mail or fax request and provide a telephone number where you can be reached between 8:30 a.m. and 5 p.m., Eastern Standard Time.

SUPPLEMENTARY INFORMATION:

In recent years, SAMHSA has announced funding opportunities for 30-40 discretionary grant programs each year. Despite similarities among these programs, the program requirements described in each grant announcement varied significantly. Some of this variation was necessary due to differences in program goals and objectives. However, much of the variation was unnecessary and significantly limited the ability of potential applicants to anticipate, plan, and lay the essential groundwork for proposed grant projects. The large number of unique grant announcements published each year also required the allocation of substantial staff resources to development of grant announcements. SAMHSA believes that these staff resources could be better used for post-award project management and monitoring.

Starting in FY 2004, SAMHSA plans to change its approach to announcing and soliciting applications for its discretionary grants. SAMHSA plans to issue four standard grant announcements that will describe the general program design and provide application instructions for four types of grants—Services Grants, Infrastructure Grants, Best Practices Planning and Implementation Grants, and Service-to-Science Grants. These standard grant announcements will be posted on SAMHSA's web page and will be available from SAMHSA's clearinghouses on an ongoing basis. The standard announcements will be used in conjunction with brief Notices of Funding Availability (NOFAs) that will announce the availability of funds for specific grant funding opportunities within each of the standard grant programs (e.g., Homeless Treatment grants, Statewide Family Network grants, or HIV/AIDS and Substance Abuse Prevention Planning Grants).

SAMHSA expects that use of these four standard grant announcements will result in the following benefits:

• The field of potential applicants will be able to more effectively anticipate the program requirements for SAMHSA's grant funding opportunities and will be better able to anticipate and plan their proposed grant projects. As a result, applicants will be able to prepare more thorough grant applications, and grantees will be better prepared to begin their grant projects in a timely manner after awards are made.

• SAMHSA's funding opportunities will be published in a more timely manner, with funding opportunities, application deadlines and awards distributed more evenly throughout the fiscal year.

• SAMHSA will be able to more clearly and consistently articulate its mission to external stakeholders.

• SAMHSA will be able to use its staff resources more efficiently and effectively.

The four grant announcements address the following core aspects of SAMHSA's mission:

1. Services Grants provide funding to implement substance abuse and mental health services.

2. Infrastructure Grants support identification and implementation of systems changes but are not designed to fund services.

3. Best Practices Planning and Implementation Grants help communities and providers identify practices to effectively meet local needs, develop strategic plans for implementing/adapting those practices and pilot-test practices prior to full-scale implementation.

4. Service to Science Grants document and evaluate innovative practices that address critical substance abuse and mental health service gaps but that have not yet been formally evaluated.

These four grant announcements were designed around several of SAMHSA's core grant programs, including Targeted Capacity Expansion Grants, State Incentive Grants, and Community Action Grants.

The Notices of Funding Availability (NOFAs) announcing the availability of funds for specific grant funding opportunities will be published separately in the Federal Register, on the Federal grants Web site (http://www.grants.gov) and on the SAMHSA Web site. The NOFAs will:

• Identify any specific target population or issue for the specific grant funding opportunity,

• Identify which of the four standard announcements applicants must use to prepare their applications,

• Specify total funding available for the first year of the grants and the expected size and number of awards,

• Specify the application deadline,

• Note any specific program requirements for each funding opportunity, and

• Include any limitations or exceptions to the general provisions in the standard announcement.

SAMHSA expects that the NOFAs will be brief. Because a primary goal of this effort is to increase the field's ability to anticipate funding opportunities and program requirements, special program requirements and deviations from the standard announcements should be few in number and limited to only those that are necessary, given the nature of the specific funding opportunity. For example, Homeless Treatment grants would likely require applicants not only to provide substance abuse and mental health services for homeless individuals, but also to link with housing and other support services needed by homeless individuals.

Applicants will need to have both the NOFA and the appropriate standard announcement to prepare their applications. Both documents will be provided, along with application materials, in the application kits available from SAMHSA's clearinghouses as well as on SAMHSA's Web site.

SAMHSA anticipaters that the four standard grant announcements will be used for the majority of its grant funding opportunities. However, there will be some funding opportunities that do not fit the standard announcements. In those instances, separate stand-alone grant announcements will be published and provided to applicants as they have been in the past (i.e., in the Federal Register, on the SAMHSA Web site, on the Federal grants Web site, and through SAMHSA's clearinghouses).

The proposed text for each of the four standard announcements and a sample NOFA are provided in separate notices that follow immediately after this notice. In particular, SAMHSA welcomes comment on the following issues:

1. Is the difference between the standard announcement and a NOFA clear?

2. Are the programmatic requirements for each standard announcement clear?

3. Are the goals/objectives for each type of standard grant clear?

4. If you are a potential applicant for a SAMHSA grant, do you believe you will be able to use the standard announcement with the NOFA to prepare your application? Will the ability to anticipate programmatic requirements improve your ability to prepare a solid application? Is the additional benefit “worth” the “cost” of having to use two different documents to prepare your application?

Note: Past applicants for SAMHSA grant programs may notice significant formatting differences between these standard announcements and previous SAMHSA grant announcements. For example, the headings for the different sections of the grant announcements have changed. These formatting differences reflect a new, mandatory outline for all Federal grant solicitations and are not related to the new approach to SAMHSA's grant announcements. These formatting changes are part of a Federal government-wide effort to make it easier for applicants to apply for Federal financial assistance. SAMHSA endorses this effort and notes that all information previously provided in SAMHSA grant announcements is provided in the new announcements, although it may be in a different location or under a different heading.

Dated: August 13, 2003.
Anna Marsh,
Acting Executive Officer.

[FR Doc. 03-21115 Filed 8-20-03; 8:45 am]

BILLING CODE 4162-20-P